DEPARTMENT OF ENERGY

Federal Energy Regulatory Commission

[Project No. 9340-037]

Kezar Falls Hydro, LLC; Notice of Intent To File License Application, Filing of Pre-Application Document, and Approving Use of Traditional Licensing Process

a. Type of Filing: Notice of Intent to File License Application and Request to Use the Traditional Licensing Process.

b. Project No.: 9340-037.

c. Date Filed: September 30, 2025.

d. Submitted By: Kezar Falls Hydro, LLC (Kezar Falls Hydro).

e. Name of Project: Kezar Falls Hydropower Project (project).

f. Location: On the Ossipee River in York and Oxford counties, Maine.

g. Filed Pursuant to: 18 CFR5.3 of the Commission's regulations.

h. Potential Applicant Contact: Jody Smet, Kezar Falls Hydro, LLC, 7315 Wisconsin Avenue, Suite 1100W Bethesda, MD 20814; Phone at (804) 382-1764 or email at jody.smet@eaglecreekre.com.

i. FERC Contact: Brandi Welch-Acosta at (202) 502-8838 or at Brandi.Welch-Acosta@ferc.gov.

j. Kezar Falls Hydro filed its request to use the Traditional Licensing Process on September 30, 2025. Kezar Falls Hydro provided public notice of its request on October 15, 2025. In a letter dated December 4, 2025, the Director of the Division of Hydropower Licensing approved Kezar Falls Hydro's request to use the Traditional Licensing Process.

k. With this notice, we are initiating informal consultation with the U.S. Fish and Wildlife Service and/or the National Marine Fisheries Service (NMFS) under section 7 of the Endangered Species Act and the joint agency regulations thereunder at 50 CFR, Part 402; and NMFS under section 305(b) of the Magnuson-Stevens Fishery Conservation and Management Act and implementing regulations at 50 CFR 600.920. We are also initiating consultation with the Maine State Historic Preservation Officer, as required by section 106, National Historic Preservation Act, and the implementing regulations of the Advisory Council on Historic Preservation at 36 CFR 800.2.

l. With this notice, we are designating Kezar Falls Hydro as the Commission's non-federal representative for carrying out informal consultation pursuant to section 7 of the Endangered Species Act and section 305(b) of the Magnuson-Stevens Fishery Conservation and Management Act; and consultation pursuant to section 106 of the National Historic Preservation Act.

m. Kezar Falls Hydro filed a Pre-Application Document (PAD; including a proposed process plan and schedule) with the Commission, pursuant to 18 CFR 5.6 of the Commission's regulations.

n. A copy of the PAD may be viewed and/or printed on the Commission's website (http://www.ferc.gov), using the “eLibrary” link. Enter the docket number, excluding the last three digits, in the docket number field to access the document (P-9340). For assistance, contact FERC Online Support at FERCOnlineSupport@ferc.gov, (866) 208-3676 (toll free), or (202) 502-8659 (TTY).

You may register online at http://www.ferc.gov/docs-filing/esubscription.asp to be notified via email of new filings and issuances related to this or other pending projects. For assistance, contact FERC Online Support.

o. The licensee states its unequivocal intent to submit an application for a subsequent license for Project No. 9340. Pursuant to 18 CFR 16.8, 16.9, and 16.10, each application for a subsequent license and any competing license applications must be filed with the Commission at least 24 months prior to the expiration of the existing license. All applications for license for this project must be filed by September 30, 2028.

p. For public inquiries and assistance with making filings such as interventions, comments, or requests for rehearing, contact the Office of Public Participation at (202) 502-6595 or OPP@ferc.gov.

(Authority: 18 CFR 2.1)

Dated: December 4, 2025.
Debbie-Anne A. Reese,
Secretary.

[FR Doc. 2025-22345 Filed 12-8-25; 8:45 am]

BILLING CODE 6717-01-P